DEPARTMENT OF STATE

[Delegation of Authority No. 310]

Delegation of Authority by the Deputy Secretary to the Under Secretary for Political Affairs and the Assistant Secretary for Consular Affairs of Authorities Under Section 306 of the Enhanced Border Security and Visa Entry Reform Act of 2002

By virtue of the authority vested in the Secretary of State, including Section 1 of the State Department Basic Authorities Act, as amended (22 U.S.C. 2651a), and delegated to the Deputy Secretary pursuant to Delegation of Authority 245 dated April 23, 2001, I hereby delegate to the Under Secretary for Political Affairs and to the Assistant Secretary for Consular Affairs the authority under Section 306 of the Enhanced Border Security and Visa Entry Reform Act of 2002 to determine, in consultation with the Attorney General and the heads of other appropriate United States agencies, that an alien who is a national of a designated state sponsor of international terrorism does not pose a threat to the safety or national security of the United States, under standards and procedures developed in consultation with the Attorney General and the heads of other appropriate United States agencies.

Notwithstanding this delegation of authority, the Secretary or Deputy Secretary may exercise any function or authority delegated by this delegation of authority. Either officer to whom this authority is delegated may exercise the delegation. The authority delegated herein may not be re-delegated.

This memorandum shall be published in the Federal Register.

Dated: March 14, 2008.
John D. Negroponte,
Deputy Secretary, Department of State.

[FR Doc. E8-6823 Filed 4-1-08; 8:45 am]

BILLING CODE 4710-10-P